DEPARTMENT OF DEFENSE

Department of the Army

[Docket ID: USA-2014-0023]

Privacy Act of 1974; System of Records

AGENCY: Department of the Army, DoD.

ACTION: Notice to alter a system of records.

SUMMARY: The Department of the Army proposes to alter a system of records notice, A0040-5b DASG, Army Behavioral Health Integrated Data Environment (ABHIDE)” in its existing inventory of records systems subject to the Privacy Act of 1974, as amended. This system will support operational public health practices and maintain a record of work places, training, exposures (occupational and environmental), medical surveillance, ergonomic recommendations, corrections and any medical care provided for eligible individuals. As the Army's public health authority, the U.S. Army Public Health Command (USAPHC) and Army Institute of Public Health is authorized to collect or receive such information for the purpose of preventing or controlling disease, injury, or disability, the reporting of disease, injury, vital events, such as birth or death, and the conduct of public health surveillance, public health investigations, and public health interventions.

DATES: Comments will be accepted on or before July 16, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/. The proposed systems reports, as required by 5 U.S.C. 552a(r) of the Privacy Act, as amended were submitted on May 30, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2014.
Aaron Siegel,
Alternate OSD Federal Register Liaison Officer, Department of Defense.

A0040-5b DASG

System name:

Army Behavioral Health Integrated Data Environment (ABHIDE) (December 1, 2009, 74 FR 62765)

Changes:

* * * * *

System name:

Delete entry and replace with “Army Public Health Data Repository (APHDR).”

System location:

Delete entry and replace with “Primary location: U.S. Army Public Health Command, Army Institute of Public Health, 5158 Blackhawk Road, Aberdeen Proving Ground, Maryland 21010-5403.

Secondary locations:

U.S. Army Medical Command facilities and activities. Official mailing addresses can be found from Army Medicine Web site, http://www.armymedicine.army.mil.”

Categories of individuals covered by the system:

Delete entry and replace with “Army active duty, National Guard, Reserve and retired, government civilian employees, subjects, suspects, victims or witnesses that may have been involved in or witnessed a crime or incident. Additional special populations include U.S. Military Academy and Reserve Officer Training Corps cadets, when engaged in directed training; foreign national military assigned to Army Components, and non-appropriated fund personnel employed by the Army for whom specific occupational health examinations and ergonomic evaluations have been conducted and/or requested; or have sustained a documented occupational injury or illness. Pertinent records on Army military and civilian personnel previously assigned with the Navy, Marines, Air Force or Coast Guard will be available in the APHDR for review.”

Categories of records in the system:

Delete entry and replace with “Personal Information: Records being maintained include name, rank/grade, military status, branch of Service, date of birth, ethnicity, Social Security Number (SSN), DoD ID Number, marital history, occupation, job series, pay plan and grade, assignments, deployment history, Armed Forces Qualification Test scores, education, certification and training history, drug and alcohol screening results, casualty information, and fitness test results.

Medical/Clinical Data:

Selected electronic data elements from inpatient and outpatient medical records including dates, tests, procedures, referrals, diagnoses and treatments; pharmacy records; suicide event reports; medical readiness information including physical limitation (profile) codes and immunization records; air evacuation patient records; Wounded Warrior lifecycle information; Medical and Physical Evaluation Board records; and neuropsychological functioning and cognitive testing. Also included are responses from self-reporting tools, such as the periodic and deployment-related health assessments; and surveys or interviews accomplished as part of focused, local epidemiological investigations.

Occupational and Environmental Exposure Data:

Exposure data related to all types of health hazards associated with military service, including garrison and deployed settings. Electronic data supporting exposure-based medical surveillance including environmental testing programs (air, soil, water); industrial hygiene monitoring programs; occupational monitoring programs (e.g., hearing conservation, radiation dosimetry, ergonomic evaluations, etc.); injury prevention programs; safety and incident reporting; personnel protective equipment and medical programs required to limit exposure to environmental safety and health hazards; and operational reports of combat exposure during deployments.

Legal Information:

Criminal investigation and military police report details to include date and location of incident, incident descriptions, criminal charges documented, suspect, subject and victim information, report number which allows access to records noted; domestic violence actions and descriptions including type and date of incident. Information, to include article violations and outcomes related to actions conducted under the Uniform Code of Military Justice (UCMJ), encompassing administrative action, non-judicial punishment and all courts martial.

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2, Confidentiality of Records. This statute takes precedence over the Privacy Act of 1974 in regard to accessibility of such records except to the individual to whom the record pertains. This statute takes precedence over the Privacy Act of 1974 to the extent that disclosure is more limited. However, access to the record by the individual to whom the record pertains is governed by the Privacy Act.”

Authority for maintenance of the system:

Delete entry and replace with “10 U.S.C. 3013, Secretary of the Army; 5 U.S.C. 7902, Safety Programs; 29 U.S.C. 668, Programs of Federal Agencies; 29 CFR 1910, Occupational Safety and Health Standards; 42 U.S.C. 290dd-2, Substance Abuse and Mental Health Services; E.O. 12223, Occupational Safety Health Programs for Federal Employees; DoD Instruction 6490.2E, Comprehensive Health Surveillance; DoD Instruction 6015.23, Delivery of Healthcare at Military Treatment Facilities (MTFs); DoD Instruction 1300.18, Personnel Casualty Matters, Policies, and Procedures; Army Regulation 40-5, Preventive Medicine; Army Regulation 40-66, Medical Record Administration and Health Care Documentation; Army Regulation 195-2, Criminal Investigation Activities; Army Regulation 600-85, Army Substance Abuse Program; Army Regulation 600-8-104, Military Personnel Information Management/Records; Army Regulation 608-18, The Family Advocacy Program; and E.O. 9397 (SSN), as amended.”

Purpose(s):

Delete entry and replace with “To support operational public health practices and maintain a record of work places, training, exposures (occupational and environmental), medical surveillance, ergonomic recommendations, corrections and any medical care provided for eligible individuals. As the Army's public health authority, the U.S. Army Public Health Command (USAPHC) and Army Institute of Public Health is authorized to collect or receive such information for the purpose of preventing or controlling disease, injury, or disability, the reporting of disease, injury, vital events, such as birth or death, and the conduct of public health surveillance, public health investigations, and public health interventions.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Note: This system of records contains protected health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.”

* * * * *

Retrievability:

Delete entry and replace with “By member's surname, DoD ID number or SSN.”

* * * * *

Retention and disposal:

Delete entry and replace with “Disposition pending until the National Archives and Records Administration approves retention and disposal schedule. Records will be treated as permanent.”

* * * * *

Notification procedure:

Delete entry and replace with “Individuals seeking to determine whether information about themselves is contained in this system should address written inquiries to the Director, U.S. Army Institute of Public Health, 5158 Blackhawk Road, Aberdeen Proving Ground, Maryland 21010-5403 or Chief Information Officer, Office of the Surgeon General, U.S. Army Medical Command, 2050 Worth Road, Suite 13, Fort Sam Houston, TX 78234-6013, or to the Patient Administrator at the appropriate medical treatment facility.

Individual should provide full name, mailing address, SSN or DoD ID number and military status and, if required, other information verifiable from the record itself.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Director, U.S. Army Institute of Public Health, 5158 Blackhawk Road, Aberdeen Proving Ground, Maryland 21010-5403 or Chief Information Officer, Office of the Surgeon General, U.S. Army Medical Command, 2050 Worth Road, Suite 13, Fort Sam Houston, TX 78234-6013, or to the Patient Administrator at the appropriate medical treatment facility.

Individual should provide full name, mailing address, SSN or DoD ID number and military status and, if required, other information verifiable from the record itself.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

* * * * *

Record source categories:

Delete entry and replace with “Data contained in this system is collected from the individual, Army offices, the Defense Medical Surveillance System (DMSS) and the Defense Manpower Data Center (DMDC).”

* * * * *

[FR Doc. 2014-13889 Filed 6-13-14; 8:45 am]

BILLING CODE 5001-06-P